DEPARTMENT OF TRANSPORTATION

Office of the Secretary

[Docket No. DOT-OST-2022-0080]

Notice To Establish the Transforming Transportation Advisory Committee (TTAC)

AGENCY: Office of the Secretary (OST), Department of Transportation (DOT).

ACTION: Notice of the establishment of the Transforming Transportation Advisory Committee (TTAC), TTAC Charter, and TTAC Membership Balance Plan.

SUMMARY: The Office of the Secretary of Transportation (OST) announces the establishment of the Transforming Transportation Advisory Committee (TTAC). The Secretary has determined that establishing TTAC is necessary and is in the public interest.

DATES: The TTAC Charter will be effective for two years after date of publication of this Federal Register notice.

FOR FURTHER INFORMATION CONTACT: TTAC Designated Federal Officer, c/o Juli Huynh—Director, Office of Policy Coordination and Development, Office of the Secretary, NETTCouncil@dot.gov or (202) 366-2278.

SUPPLEMENTARY INFORMATION: This notice announces the establishment of the DOT TTAC as a Federal Advisory Committee in accordance with the Federal Advisory Committee Act (Pub. L. 92-463, 5 U.S.C. App. 2) to provide information, advice, and recommendations to the Secretary on matters relating to transportation innovation. TTAC is tasked with providing advice and recommendations to the Secretary about needs, objectives, plans, and approaches for transportation innovation. Please see the TTAC website for additional information at https://www.transportation.gov/ttac.

Issued in Washington, DC on July 14, 2022, under authority delegated at 49 CFR 1.25a.
Vincent Gerard White Jr.,
Senior Advisor for Innovation.

Transforming Transportation Advisory Committee Charter

1. Committee's Official Designation: The Committee's official designation is the Transforming Transportation Advisory Committee (TTAC).

2. Authority: The Committee is established as a discretionary Committee under the authority of the U.S. Department of Transportation (DOT) and in accordance with the provisions of the Federal Advisory Committee Act (FACA), as amended, 5 U.S.C. App. 2. The formation and use of TTAC are determined to be in the public interest.

3. Objectives and Scope of Activities: The Secretary of Transportation (the Secretary), or his or her designee, shall present TTAC with tasks on matters relating to transportation innovation. The Committee will provide advice and recommendations to the Secretary about needs, objectives, plans, and approaches for multimodal transportation innovation.

4. Description of Duties: The Committee is advisory only. Duties include the following:

a. Gathering information as necessary to discuss issues presented by the Designated Federal Officer (DFO);

b. Deliberating on the following issues, as assigned:

i. Exploring pathways to safe, secure, equitable, environmentally friendly and accessible deployments of emerging technologies;

ii. Identifying integrated approaches and finding ways to promote greater cross-modal integration of emerging technologies, in particular applications to deploy automation;

iii. Recommending policies that encourage innovation to grow and support a safe and productive U.S. workforce, as well as foster economic competitiveness and job quality;

iv. Assessing approaches and frameworks that encourage the secure exchange and sharing of transformative transportation data, including technologies and infrastructure, across the public and private sectors that can guide core policy decisions across DOT's strategic goals;

v. Exploring ways the Department can identify and elevate cybersecurity solutions and protect privacy across transportation systems and infrastructure;

vi. Considering other emerging issues, topics, and technologies, at the direction of the DFO.

c. Providing written advice and recommendations to the Secretary.

5. Agency/Official To Whom the Committee Reports: The Committee shall report to the Secretary through the Under Secretary for Transportation Policy.

6. Support: The Office of the Assistant Secretary for Transportation Policy (OST-P) will provide necessary support for the Committee.

7. Estimated Annual Operating Costs and Staff Years: The annual operating (administrative) costs associated with the Committee's functions are estimated to be $200,000. The cost estimate includes support from 2 full-time equivalent positions that are required to support the Committee. Costs incurred by Committee members for travel and logistics will not be paid by the Department.

8. Designated Federal Officer (DFO) and Sponsor

a. The DFO for the Committee is OST's Senior Advisor for Innovation or his or her designee.

b. The DFO will approve or call all Committee and subcommittee meetings, prepare and approve all meeting agendas, attend all Committee and subcommittee meetings, adjourn any meetings when he or she determines adjournment to be in the public interest, and chair meetings when directed to do so by the Secretary.

9. Estimated Number and Frequency of Meetings: Committee meetings will be held approximately twice a year. As necessary, the DFO may call subcommittee meetings.

10. Duration: Continuing until renewed/terminated.

11. Termination: The Committee will terminate 2 years from the charter filing date unless the charter is renewed in accordance with the FACA.

12. Membership and Designation

a. Members will serve without charge, and without any government compensation.

b. The Committee shall comprise no more than 25 members appointed by the Secretary for up to 2-year terms.

c. Members serve at the discretion of the Secretary. The Secretary may extend appointments and may appoint replacements for members outside a stated term, as necessary.

d. The Secretary may reappoint members.

e. The members shall include safety advocates, experts from academia/universities, representatives of organized labor, technical experts (e.g., automation, data, privacy, cybersecurity), and industry representatives. Individuals appointed solely for their expertise will be appointed as special government employees (SGEs). No single interest group may constitute a majority of the Committee.

f. To ensure that the recommendations of the Committee have considered the needs of diverse groups served by the Department, membership shall include, to the extent practicable, persons with lived experience and knowledge of the needs of underrepresented groups.

g. Members may continue to serve until their replacements have been appointed.

h. The Secretary shall designate a chair and vice chair from among members of the Committee. They will serve 2-year nonrenewable terms. The vice chair will succeed the chair at the end of the term.

13. Subcommittees: The Secretary, Under Secretary for Transportation Policy, or DFO shall be authorized to establish subcommittees. Subcommittees shall not work independently of the chartered TTAC and shall report their recommendations and advice to the full TTAC for deliberation and discussion. Subcommittees must not provide advice or work products directly to DOT. Subcommittee membership is not limited to those who were selected as members of the Committee. Further, any costs associated with subcommittee travel or meetings will not be paid by the Department.

14. Recordkeeping: The records of the Committee, formally and informally established subcommittees, or other subgroups of the Committee, shall be handled in accordance with General Records Schedule 6.2 or other approved agency records disposition schedule. These records shall be available for public inspection and copying, subject to the Freedom of Information Act, 5 U.S.C. 552.

15. Filing Date: This charter is effective July 19, 2022. The charter will expire 2 years after this date unless sooner terminated or renewed.

Transforming Transportation Advisory Committee Membership Balance Plan

(1) Federal Advisory Committee Name

Transforming Transportation Advisory Committee (TTAC).

(2) Authority

The Committee is a discretionary Committee under the authority of the U.S. Department of Transportation (DOT), established in accordance with the provisions of the Federal Advisory Committee Act (FACA), as amended, 5 U.S.C. App. 2.

(3) Mission/Function

The Committee will provide advice and recommendations to the Secretary on transportation innovation.

(4) Points of View

The Committee consists of members from DOT's stakeholder groups, representing safety advocates, labor, technical experts (e.g., automation, data, privacy, cybersecurity), and industry representatives. The TTAC membership ceiling is set at 25.

a. The Committee may be composed of up to 25 members who are selected from individuals who are not employees of DOT and who represent the interests and opinions of the safety advocates, labor, technical experts (e.g., automation, data, privacy, cybersecurity), and industry representatives. Other members appointed solely for their expertise must be appointed as Special Government Employees (SGE).

b. DOT seeks to achieve balance among the membership on the Committee. Membership shall include representative members and SGEs, as necessary. Membership balance is dynamic and may change depending on the work of the Committee.

(5) Other Balance Factors

In addition to the factors stated above to balance the Committee membership, DOT seeks balance regarding the following factors: gender; geographic area; race and ethnicity; expertise; diversity of work sector; and other factors to achieve the most diverse and comprehensive points of view.

(6) Candidate Identification Process

a. Initial TTAC membership will be solicited through a Federal Register Notice.

b. Periodically, when several openings arise on the Committee, DOT will solicit membership from among the representative sectors through a notice in the Federal Register and other advertisements, as necessary. Adequate time is allowed for candidates to apply or be nominated. Additionally, the Secretary may extend appointments and may appoint replacements for members who have resigned outside of a stated term, as necessary.

c. Upon closure of the application period, candidate applications will be compiled and reviewed and recommendations for membership made by the Designated Federal Officer, or designee, and to the Secretary for selection.

d. Under the TTAC Charter, Committee members continue to serve until new members have been appointed to replace them. Members may be appointed by the Secretary for up to 2-year terms and may be reappointed by the Secretary.

(7) Subcommittee Balance

If established, subcommittees will be balanced according to the criteria discussed above. A truncated selection process may be implemented.

(8) Other

None.

(9) Date Prepared/Updated

This Membership Balance Plan was prepared initially on July 14, 2022 and will be updated in conjunction with the charter every two years.

[FR Doc. 2022-15458 Filed 7-19-22; 8:45 am]

BILLING CODE 4910-9X-P